DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 3, 2010, 8:30 a.m. to 5 p.m. May 4, 2010, 8:30 a.m. to 5 p.m.

Place: Hard Rock Hotel San Diego, 207 5th Avenue, San Diego, California 92101, Telephone: 619-702-3000, Fax: 877-344-7625.

Status: The meeting will be open to the public.

Purpose: The purpose of the meeting is to discuss services and issues related to the health of migrant and seasonal farmworkers and their families and to formulate recommendations for the Secretary of Health and Human Services.

Agenda: The agenda includes an overview of the Council's general business activities. The Council will also hear presentations from experts on farmworker issues, including the status of farmworker health at the local and national levels.

The Council meeting is being held in conjunction with the National Farmworker Conference sponsored by the National Association of Community Health Centers, which is being held in San Diego, California, May 5-7, 2010.

Agenda items are subject to change as priorities indicate. FOR FURTHER INFORMATION CONTACT: Gladys Cate, Office of Minority and Special Populations, Bureau of Primary Health Care, Health Resources and Services Administration, 5600 Fishers Lane, Maryland 20857; telephone (301) 594-0367.

Dated: April 7, 2010.
Sahira Rafiullah,
Director, Division of Policy and Information Coordination.

[FR Doc. 2010-8624 Filed 4-14-10; 8:45 am]

BILLING CODE 4165-15-P